ENVIRONMENTAL PROTECTION AGENCY

[FRL-10015-35-Region 4]

Public Water System Supervision Program Revision for the State of South Carolina

AGENCY: Environmental Protection Agency (EPA).

ACTION: Notice of intended approval.

SUMMARY: This notice is hereby given that the State of South Carolina is revising its approved Public Water System Supervision Program. South Carolina has adopted drinking water regulations for the Ground Water Rule, Lead and Copper Rule Short-Term Regulatory Revisions and Clarifications, and Revised Total Coliform Rule. The Environmental Protection Agency (EPA) has determined that South Carolina's regulations are no less stringent than these federal rules and the revisions otherwise meet applicable Safe Drinking Water Act requirements. Therefore, the EPA intends to approve these revisions to the State of South Carolina's Public Water System Supervision Program.

DATES: Any interested person may request a public hearing. A request for a public hearing must be submitted by November 16, 2020, to the Regional Administrator at the following address: U.S. Environmental Protection Agency, Region 4, Atlanta Federal Center, 61 Forsyth Street SW, Atlanta, Georgia 30303. The Regional Administrator may deny frivolous or insubstantial requests for a hearing. However, if a substantial request for a public hearing is made by November 16, 2020, a public hearing will be held. If no timely and appropriate request for a hearing is received and the Regional Administrator does not elect to hold a hearing on her own motion, this determination shall become final and effective on November 16, 2020. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: Documents relating to this determination are available for inspection between the hours of 9:00 a.m. and 4:00 p.m., Monday through Friday (excluding legal holidays), at the following location: The main office of the South Carolina Department of Health and Environmental Control (SCDHEC), 2600 Bull Street, Columbia, South Carolina 29201. Due to COVID-19, those intending to view documents at this location should contact Richard Welch, Bureau of Water, SCDHEC, by telephone at (803) 898-3546 at least 24 hours prior to arriving at SCDHEC to coordinate viewing. Documents relating to the determination are also available online at https://www.scdhec.gov/public-water-system-supervision-program-revision for inspection.

FOR FURTHER INFORMATION CONTACT: Dale Froneberger, EPA Region 4, Safe Drinking Water Branch, by mail at the Atlanta street address given above, by telephone at (404) 562-9446, or by email at froneberger.dale@epa.gov.

SUPPLEMENTARY INFORMATION: The State of South Carolina has submitted requests that the EPA approve revisions to the State's Safe Drinking Water Act Public Water System Supervision Program to include the authority to implement and enforce the Ground Water Rule, Lead and Copper Rule Short-Term Regulatory Revisions and Clarifications, and Revised Total Coliform Rule. For the requests to be approved, the EPA must find the state regulations codified at S.C. Code Ann. Regs. 61-58 to be no less stringent than the federal rules codified at 40 CFR part 141. The EPA reviewed South Carolina's applications using the federal statutory provisions (Section 1413 of the Safe Drinking Water Act), federal regulations (at 40 CFR parts 141 and 142), state regulations, state policies and procedures for implementing the rules, regulatory crosswalks, and the EPA regulatory guidance to determine whether the requests for revision are approvable. The EPA determined that the South Carolina regulations are no less stringent than the corresponding federal rules and the revisions otherwise meet applicable Safe Drinking Water Act requirements. Therefore, the EPA intends to approve these revisions. If the EPA does not receive a timely and appropriate request for a hearing and the Regional Administrator does not elect to hold a hearing on her own motion, this approval shall become final and effective on November 16, 2020.

Authority: Section 1413 of the Safe Drinking Water Act, as amended (1996), and 40 CFR part 142.

Dated: September 29, 2020.
Mary Walker,
Regional Administrator, Region 4.

[FR Doc. 2020-22730 Filed 10-14-20; 8:45 am]

BILLING CODE 6560-50-P